DEPARTMENT OF COMMERCE

National Oceanic and Atmospheric Administration

Fisheries of the Gulf of Mexico and South Atlantic; Southeast Data, Assessment and Review (SEDAR); Public Meeting

AGENCY: National Marine Fisheries Service (NMFS), National Oceanic and Atmospheric Administration (NOAA), Commerce.

ACTION: Notice of Assessment Webinar.

SUMMARY: The SEDAR 28 assessment of the Gulf of Mexico and South Atlantic Spanish mackerel and cobia fisheries will consist of a series of workshops and supplemental webinars. This notice is for a webinar associated with the Assessment portion of the SEDAR process. See SUPPLEMENTARY INFORMATION.

DATES: The SEDAR 28 Assessment Workshop Webinar will be held on August 17, 2012 from 1 p.m. until 5 p.m. EST. The established time may be adjusted as necessary to accommodate the timely completion of discussion relevant to the assessment process. Such adjustments may result in the meeting being extended from or completed prior to the times established by this notice.

ADDRESSES: The webinar will be held via a GoToMeeting Webinar Conference. The webinar is open to members of the public. Those interested in participating should contact Ryan Rindone at SEDAR (see FOR FURTHER INFORMATION CONTACT) to request an invitation providing webinar access information. Please request meeting information at least 24 hours in advance.

FOR FURTHER INFORMATION CONTACT: Ryan Rindone, SEDAR Coordinator, 2203 N. Lois Ave., Suite 1100, Tampa FL 33607; telephone: (813) 348-1630; email: ryan.rindone@gulfcouncil.org.

SUPPLEMENTARY INFORMATION: The Gulf of Mexico and the South Atlantic Fishery Management Councils (Councils), in conjunction with NOAA Fisheries, has implemented the Southeast Data, Assessment and Review (SEDAR) process, a multi-step method for determining the status of fish stocks in the Southeast Region. SEDAR is a three-step process including: (1) Data Workshop; (2) Assessment Process including a workshop and webinars; and (3) Review Workshop. The Data Workshop produces a data report that compiles and evaluates potential datasets and recommends the appropriate datasets for assessment analyses. The product of the Assessment Process is a stock assessment report that describes the fisheries, evaluates the status of the stock, estimates biological benchmarks, projects future population conditions, and recommends research and monitoring needs. The assessment is independently peer reviewed at the Review Workshop. The product of the Review Workshop is a summary documenting panel opinions regarding the strengths and weaknesses of the stock assessment and input data. Participants for SEDAR Workshops are appointed by the Councils, NOAA Fisheries Southeast Regional Office, and the NOAA Southeast Fisheries Science Center. Participants include: Data collectors and database managers; stock assessment scientists, biologists, and researchers; constituency representatives including fishermen, environmentalists, and non-governmental organizations (NGOs); international experts; and staff of the Councils, marine fisheries commissions, and state and federal agencies.

SEDAR 28 Assessment Workshop Webinar

Panelists will continue deliberations and discussions regarding modeling methodologies for the Gulf of Mexico and South Atlantic Spanish mackerel and cobia fisheries.

Special Accommodations

This meeting is accessible to people with disabilities. Requests for auxiliary aids should be directed to the Council office (see FOR FURTHER INFORMATION CONTACT) at least 10 business days prior to the meeting.

Dated: July 18, 2012.
Tracey L. Thompson,
Acting Deputy Director, Office of Sustainable Fisheries, National Marine Fisheries Service.

[FR Doc. 2012-17828 Filed 7-20-12; 8:45 am]

BILLING CODE 3510-22-P